DEPARTMENT OF HEALTH AND HUMAN SERVICES

Centers for Disease Control and Prevention

Delegation of Authority

Notice is hereby given that the Director, Centers for Disease Control and Prevention (CDC), has delegated to the Chief Operating Officer, CDC, without the authority to redelegate, the authority vested in the Secretary of HHS by section 212(1) of the Department of Defense and Labor, Health and Human Services, and Education Appropriations Act, 2019 and Continuing Appropriations Act, 2019 (FY 19 HHS Appropriations Act) Public Law 115-245, division B, title II, or substantially similar authorities vested in the Secretary in the future by Congress, in order to carry out international health activities.

Section 212(1) of the FY19 HHS Appropriations Act permits the Secretary of HHS to exercise authority equivalent to that available to the Secretary of State under 22 U.S.C 2669(c) to award personal services contracts for work performed in foreign countries. The authority delegated herein includes the authority to determine the necessity of negotiating, executing, and performing such contracts without regard to statutory provisions as related to the negotiation, making, and performance of contracts and performance of work in the United States.

The authority under section 212(1) is immediately revoked in the event that any subsequent fiscal year HHS appropriations act does not contain the provision currently in section 212(1) or substantially similar authority.

The Chief Operating Officer, CDC, shall consult with the Secretary of State and relevant Chief of Mission to ensure that this authority is exercised in a manner consistent with section 207 of the Foreign Service Act of 1980 and other applicable statutes administered by the Department of State.

This delegation supersedes the delegation of similar name, approved by the Director, CDC, on March 17, 2020.

This delegation became effective on January 31, 2022. The Director, CDC, affirms and ratifies any actions taken that involve the exercise of the authority delegated herein prior to the effective date of this delegation.

Sherri A. Berger,
Chief of Staff, Centers for Disease Control and Prevention.

[FR Doc. 2022-02328 Filed 2-3-22; 8:45 am]

BILLING CODE 4163-18-P